NATIONAL SCIENCE FOUNDATION

Advisory Committee for International Science & Engineering; Notice of Meeting

In accordance with Federal Advisory Committee Act (Pub. L. 92-463, as amended), the National Science Foundation announces the following meeting:

Name: Advisory Committee for International Science and Engineering (#25104).

Date/Time: September 28, 2009; 8:30 a.m. to 5 p.m.; September 29, 2009; 8:30 a.m. to 12 p.m.

Place: National Science Foundation, 4201 Wilson Boulevard, Room 920, Arlington, VA.

Type of Meeting: Open.

Contact Person: Edward Murdy, National Science Foundation, 4201 Wilson Boulevard, Arlington, VA 22230 (703) 292-8710.

If you are attending the meeting and need access to the NSF, please contact the individual listed above so you name may be added to the building access list.

Purpose of Meeting: To provide advice on the programs and activities of the Office of International Science and Engineering.

Agenda:

September 28, 2009

AM: Introductions and Updates—Presentation and Discussion of 2009 activities.

PM: Presentation and Discussion—Meet with NSF Director; Committee Discussion.

September 30, 2009

AM: Presentation and Discussion—Activities and initiatives for the coming year. Planning for the next meeting.

Dated: August 25, 2009.
Susanne Bolton,
Committee Management Officer.

[FR Doc. E9-20771 Filed 8-27-09; 8:45 am]

BILLING CODE 7555-01-P